FEDERAL COMMUNICATIONS COMMISSION

Public Information Collections Approved by Office of Management and Budget

August 3, 2006.

SUMMARY: The Federal Communications Commission (Commission) has received Office of Management and Budget (OMB) approval for the following public information collections pursuant to the Paperwork Reduction Act of 1995, Public Law 104-13. An agency may not conduct or sponsor and a person is not required to respond to a collection of information unless it displays a currently valid control number.

FOR FURTHER INFORMATION CONTACT: Paul J. Laurenzano, Federal Communications Commission, 445 12th Street, SW., Washington, DC 20554, (202) 418-1359 or via the Internet at plaurenz@fcc.gov.

SUPPLEMENTARY INFORMATION: OMB Control No.: 3060-0855.

OMB Approval Date: 7/27/2006.

Expiration Date: 1/31/2007.

Title: Telecommunications Reporting Worksheet, WC Docket No. 06-112, CC Docket No. 96-45.

Form No.: FCC Forms 499 (FCC Forms 499-A and 499-Q).

Estimated Annual Burden: 17,465 responses; 263,230 total annual burden hours; 10-25 hours per quarterly filing and 13.5-25 hours per annual filing per respondent.

Needs and Uses: This collection was submitted as a revision to an existing collection to obtain emergency clearance for FCC Forms 499-A and 499-Q (3060-0855). Universal Service obligations have been extended to interconnected Voice over Internet Protocol (interconnected VoIP) providers. The Commission requires telecommunications carriers and certain other providers of interstate telecommunications to contribute to the universal service fund. The Commission has found that interconnected VoIP providers are providers of interstate telecommunications. As such, the Commission has determined that interconnected VoIP providers must contribute to the universal service fund. By including interconnected VoIP providers in the contribution base, the Commission ensures that its contribution mechanism remains equitable, nondiscriminatory, and competitively neutral. The Commission determined that interconnected VoIP providers may contribute based on an interim safe harbor amount, under which interconnected VoIP providers treat 64.9 percent of their telecommunications revenues as interstate; their actual interstate end-user telecommunications revenues; or an estimate of their interstate end-user telecommunications revenues as determined by a traffic study, which must first be submitted to, then affirmatively approved by, the Commission. In addition, the Commission revised the interim wireless safe harbor that wireless providers may use to report their interstate revenues to 37.1 percent. The Commission also determined that, to the extent wireless providers report interstate telecommunications revenue based on traffic studies, in lieu of reporting revenues based on actual interstate end-user telecommunications revenues or based on the interim wireless safe harbor of 37.1 percent, such traffic studies must be filed with the Commission and the Universal Service Administrative Company.

OMB Control No.: 3060-0859.

OMB Approval Date: 6/23/2006.

Expiration Date: 6/30/2009.

Title: Suggested Guidelines for Petitons for Ruling Under Section 253 of the Communications Act.

Form No.: N/A.

Estimated Annual Burden: 80 Responses; 6,280 total annual burden hours; 63-125 hours per respondent.

Needs and Uses: This collection was submitted to extend an existing collection. The collection establishes various procedural guidelines related to the Commission's processing of petitions for preemption pursuant to Section 253 of the Communications Act of 1934, as amended. The Commission uses the information to discharge its statutory mandate relating to the preemption of state or local statutes or other state or local legal requirements.

Federal Communications Commission.
Jacqueline R. Coles,
Associate Secretary.

[FR Doc. E6-12994 Filed 8-8-06; 8:45 am]

BILLING CODE 6712-01-P